DEPARTMENT OF AGRICULTURE

Forest Service

Availability of an Environmental Assessment for an amendment to the Green Mountain National Forest Land and Resource Management Plan; Addison, Bennington, Rutland, Washington, Windham and Windsor Counties, Vermont

AGENCY: Forest Service, USDA.

ACTION: Notice of availability of an environmental assessment.

SUMMARY: On May 10, 2000, Green Mountain and Finger Lakes National Forest Supervisor, Paul K. Brewster, (Responsible Official) set forth a proposal to amend the 1987 Green Mountain National Forest Land and Resource Management Plan (Forest Plan). On January 17, 2001, he made the resultant Environmental Assessment available for a 30 day public comment period. The comment period closed on February 16, 2001. Copies of the Environmental Assessment are available upon request. The current preferred alternative (Alternative 3), would incorporate into the Forest Plan the reasonable and prudent measures and terms and conditions contained in the Biological Opinion (prepared by the U.S. Fish and Wildlife Service, dated February 16, 2000) as well as additional conservation measures that would benefit Indiana bat habitat and habitats for other woodland bat species. These measures would also increase monitoring for bats and bat habitat. In addition, education and outreach efforts related to Indiana bat conservation would be increased, and recommendations for conservation of Sensitive Species incorporated.

All comments received are being evaluated, and may result in supplementation of the Environmental Assessment or be incorporated into the final decision.

This notice is provided pursuant to section 10(c) of the Act and National Environmental Policy Act regulations (40 CFR 1506.6, 453 FR 55990) and National Forest System Land and Resource Management Planning regulations (36 CFR 219.35, 65 FR 6745145).

DATES: On May 10, 2000, Green Mountain and Finger Lakes National Forest Supervisor, Paul K. Brewster (Responsible Official) put forth a proposal to amend the 1987 Green Mountain National Forest Land and Resource Management Plan (Forest Plan). On January 17, 2001, a legal notice was published in the Rutland Daily Herald, announcing the availability of the Environmental Assessment for a 30 day public comment period. The comment period closed on February 16, 2001.

ADDRESSES: Send requests for documents to: Forest Supervisor, Green Mountain and Finger Lakes National Forest, 231 North Main Street, Rutland, Vermont 05701.

FOR FURTHER INFORMATION CONTACT: Patricia D'Andrea, Forest Planner, at 802-388-4362, ext. 112 TDD 802-747-6765; or direct electronic mail to: “pdandrea@fs.fed.us.”

Responsible Official: Paul K. Brewster, Forest Supervisor, 231 North Main Street, Rutland, Vermont 05701.

SUPPLEMENTARY INFORMATION: This amendment would apply to the 370,530 acres of the Green Mountain National Forest in the form of amending the standards and guidelines of the Land and Resource Management Plan for the conservation of the Indiana bat and other woodland bat species, as well as incorporating recommendations for the conservation of Sensitive Species. This is a non-significant amendment.

Dated: February 16, 2001.
Paul K. Brewster,
Forest Supervisor.

[FR Doc. 01-4697 Filed 2-26-01; 8:45 am]

BILLING CODE 3410-11-M